LIBRARY OF CONGRESS

Copyright Royalty Board

37 CFR Part 381

[Docket No. 20-CRB-0011-PBR (2018-2022) COLA (2021)]

Cost of Living Adjustment to Public Broadcasters Compulsory License Royalty Rate

AGENCY: Copyright Royalty Board, Library of Congress.

ACTION: Final rule; cost of living adjustment.

SUMMARY: The Copyright Royalty Judges announce a cost of living adjustment (COLA) to the royalty rate that noncommercial radio stations at certain colleges, universities, and other educational institutions that are not affiliated with National Public Radio must pay for the use in 2021 of published nondramatic musical compositions in the SESAC repertory pursuant to the statutory license under the Copyright Act for noncommercial broadcasting.

DATES:

Effective date: December 9, 2020.

Applicability dates: These rates are applicable to the period beginning January 1, 2021, and ending December 31, 2021.

FOR FURTHER INFORMATION CONTACT: Anita Blaine, CRB Program Assistant, by telephone at (202) 707-7658 or by email at crb@loc.gov.

SUPPLEMENTARY INFORMATION: Section 118 of the Copyright Act, title 17 of the United States Code, creates a statutory license for the use of published nondramatic musical works and published pictorial, graphic, and sculptural works in connection with noncommercial broadcasting.

On January 19, 2018, the Copyright Royalty Judges (Judges) adopted final regulations governing the rates and terms of copyright royalty payments under section 118 of the Copyright Act for the license period 2018-2022. See 83 FR 2743. Pursuant to these regulations, on or before December 1 of each year, the Judges shall publish in the Federal Register notice of the change in the cost of living and a revised schedule of the rates codified at § 381.5(c)(3) relating to compositions in the repertory of SESAC. The adjustment, fixed to the nearest dollar, shall be the greater of (1) the change in the cost of living as determined by the Consumer Price Index (all consumers, all items) (“CPI-U”) “during the period from the most recent index published prior to the previous notice to the most recent index published prior to December 1, of that year” or (2) 1.5%. 37 CFR 381.10.

The change in the cost of living as determined by the CPI-U during the period from the most recent index published prior to the previous notice, i.e., before December 1, 2019, to the most recent index published before December 1, 2020, is 1.2%.¹ In accordance with 37 CFR 381.10(b), the Judges announce that the COLA for calendar year 2021 shall be 1.5%. Application of the 1.5% COLA to the 2020 rate for the performance of published nondramatic musical compositions in the repertory of SESAC—$162 per station—results in an adjusted rate of $164 per station.

¹ On November 12, 2020, the Bureau of Labor Statistics announced that the CPI-U increased 1.2% over the last 12 months.

List of Subjects in 37 CFR Part 381

Copyright, Music, Radio, Television, Rates.

Final Regulations

In consideration of the foregoing, the Judges amend part 381 of title 37 of the Code of Federal Regulations as follows:

PART 381—USE OF CERTAIN COPYRIGHTED WORKS IN CONNECTION WITH NONCOMMERCIAL EDUCATIONAL BROADCASTING

1. The authority citation for part 381 continues to read as follows:

Authority: 17 U.S.C. 118, 801(b)(1), and 803.

2. Section 381.5 is amended by revising paragraph (c)(3)(iv) to read as follows:

§ 381.5 Performance of musical compositions by public broadcasting entities licensed to colleges and universities.

* * * * *

(c) * * *

(3) * * *

(iv) 2021: $164 per station.

* * * * *

Dated: November 17, 2020.
Jesse M. Feder,
Chief Copyright Royalty Judge.

[FR Doc. 2020-25741 Filed 11-23-20; 8:45 am]

BILLING CODE 1410-72-P